DEPARTMENT OF COMMERCE

International Trade Administration

[C-351-844]

Certain Cold-Rolled Steel Flat Products of Brazil: Postponement of the Expedited Sunset Review of the Countervailing Duty Order

AGENCY: Enforcement and Compliance, International Trade Administration, Department of Commerce.

DATES: Applicable September 28, 2021.

FOR FURTHER INFORMATION CONTACT: Alex Wood, AD/CVD Operations, Office II, Enforcement and Compliance, International Trade Administration, U.S. Department of Commerce, 1401 Constitution Avenue NW, Washington, DC 20230; telephone: (202) 482-1959.

SUPPLEMENTARY INFORMATION:

Background

On June 1, 2021, the Department of Commerce (Commerce) initiated the first sunset review of the countervailing duty (CVD) order on certain cold-rolled steel products (CRS) from Brazil, pursuant to section 751(c) of the Tariff Act of 1930, as amended (the Act).¹ Within the deadline specified in 19 CFR 351.218(d)(1)(i), Commerce received notices of intent to participate in the sunset review on behalf of Cleveland-Cliffs Inc., Nucor Corporation, Steel Dynamics Inc., and United States Steel Corporation (collectively, domestic interested parties).² Each claimed interested party status under section 771(9)(C) of the Act as a producer of a domestic like product. Commerce received a timely substantive response from these domestic interested parties.³ We also received a substantive response from the Government of Brazil (GOB), but we did not receive a substantive response from any other interested party in this proceeding.⁴ On July 22, 2021, Commerce notified the U.S. International Trade Commission that it did not receive an adequate substantive response from respondent interested parties and that Commerce would conduct an expedited (120-day) sunset review of the order on CRS from Brazil, pursuant to section 751(c)(3)(B) of the Act and 19 CFR 351.218(e)(1)(ii)(C)(2).⁵ The final results of the expedited sunset review are currently due September 29, 2021.

¹ See Initiation of Five-Year (Sunset) Reviews, 86 FR 29239 (June 1, 2021).

² See Cleveland-Cliffs Inc.'s Letter, “Notice of Intent to Participate in Sunset Review,” dated June 14, 2021; Nucor Corporation's Letter, “Notice of Intent to Participate in Sunset Review,” dated June 16, 2021; United States Steel Corporation's Letter, “Notice of Intent to Participate,” dated June 16, 2021; and Steel Dynamic Inc.'s Letter, “Notice of Intent to Participate,” dated June 16, 2021.

³ See Domestic Interested Parties' Letter, “Domestic Industry's Substantive Response to Notice of Initiation,” dated July 1, 2021.

⁴ See GOB's Letter, “Initial Comments,” dated August 31, 2021; see also Commerce's Letter, “Rejection of Response to Notice of Initiation,” dated August 25, 2021; and Commerce's Letter, “Extension for Resubmission of Comments on the Initiation,” dated August 27, 2021. We note that the GOB had timely submitted its response on June 30, 2021 but failed to identify and properly bracket certain proprietary information. Therefore, after notifying the GOB of the deficiency, we provided the GOB additional time to refile its response.

⁵ See Commerce's Letter, “Sunset Reviews Initiated on June 1, 2021,” dated July 22, 2021.

Postponement of Expedited Sunset Review

Section 751(c)(3)(B) of the Act provides that Commerce may issue, without further investigation, a final determination based on the facts available, in accordance with section 776 of the Act within 120 days after the initiation of the review if interested parties provide inadequate responses. However, if Commerce determines that the review is extraordinarily complicated, section 751(c)(5)(B) of the Act allows Commerce to extend the time period for making its determination by not more than 90 days.

Commerce has determined that this CVD sunset review is extraordinarily complicated pursuant to sections 751(c)(5)(C)(i) and (ii) of the Act. Specifically, due to the number and complexity of the alleged countervailable subsidy programs being reviewed, in addition to the numerous arguments made by parties in their substantive responses, it is not practicable to complete the determination of this CVD sunset review within the original time limit (i.e., by September 29, 2021). Therefore, in accordance with section 751(c)(5)(B) of the Act, Commerce is postponing the deadline of the determination in this sunset review to no later than 210 days after the day on which this sunset review was initiated, i.e., December 28, 2021.

This notice is issued and published in accordance with sections 751(c)(5)(B) and (C) of the Act.

Dated: September 22, 2021.
Christian Marsh,
Acting Assistant Secretary for Enforcement and Compliance.

[FR Doc. 2021-21041 Filed 9-27-21; 8:45 am]

BILLING CODE 3510-DS-P